DEPARTMENT OF THE INTERIOR

Bureau of Land Management

[ES-010-1430-ET; FL-ES-033516]

Notice of Proposed Withdrawal and Opportunity for Public Meeting; Florida

AGENCY: Bureau of Land Management, Interior.

ACTION: Notice.

SUMMARY: The United States Fish and Wildlife Services proposes to withdraw 1.13 acres of public lands as an addition to the National Key Deer Refuge. This notice closes the lands for up to 2 years from surface entry and mining. The lands will remain open to mineral leasing.

DATES: Comments and requests for a public meeting must be received by May 7, 2001.

ADDRESSES: Comments and meeting requests should be sent to the Field Manager, BLM, 411 Briarwood Drive, Suite 404, Jackson, Mississippi 39206.

FOR FURTHER INFORMATION CONTACT: Mary Weaver, Jackson Field Office, 601-977-5400.

SUPPLEMENTARY INFORMATION: On January 17, 2001, a petition was approved allowing the United States Fish and Wildlife Service to file an application to withdraw the following described public lands from settlement, sale, location, or entry under the general land laws, including the mining laws, subject to valid existing rights:

Tallahassee Meridian

T. 66 S., R. 32 E.,

Sec. 10, lot 6.

T. 67 S., R. 27 E.,

Sec. 14, lot 38.

The areas described aggregate 1.13 acres in Monroe County.

The purpose of the proposed withdrawal is to protect the National Key Deer Refuge.

For a period of 90 days from the date of publication of this notice, all persons who wish to submit comments, suggestions, or objections in connection with the proposed withdrawal may present their views in writing to the Jackson Field Office of the Bureau of Land Management.

Notice is hereby given that an opportunity for a public meeting is afforded in connection with the proposed withdrawal. All interested persons who desire a public meeting for the purpose of being heard on the proposed withdrawal must submit a written request to the Jackson Field Office within 90 days from the date of publication of this notice. Upon determination by the authorized officer that a public meeting will be held, a notice of the time and place will be published in the Federal Register at least 30 days before the schedule date of the meeting.

The application will be processed in accordance with the regulations set forth in 43 CFR 2300.

For a period of 2 years from the date of publication of this notice in the Federal Register, the lands will be segregated as specified above unless the application is denied or canceled or the withdrawal is approved prior to that date. The temporary uses which will be permitted during this segregative period are leases or permits.

The temporary segregation of the lands in connection with a withdrawal application or proposal shall not affect administrative jurisdiction over the lands, and the segregation shall not have the effect of authorizing any use of the lands by the United States Fish and Wildlife Service.

Bruce Dawson,
Field Manager.

[FR Doc. 01-2904 Filed 2-2-01; 8:45 am]

BILLING CODE 4310-6J-M